ELECTION ASSISTANCE COMMISSION

Sunshine Act Notice

AGENCY: United States Election Assistance Commission.

ACTION: Notice of public meeting.

Date and Time: Thursday, May 17, 2007, 10 a.m.-1 p.m.

Place: U.S. Election Assistance Commission, 1225 New York Ave., NW., Suite 150, Washington, DC 20005 (Metro Stop: Metro Center).

Agenda: The Commission will receive updates on the activities of the following: The EAC Standards Board; the EAC Board of Advisors; and the EAC Technical Guidelines Development Committee (TGDC). The Commission will consider other administrative matters.

This meeting will be open to the public.

For Further Information Contact: Bryan Whitener, Telephone: (202) 566-3100.

Thomas R. Wilkey,
Executive Director, U.S. Election Assistance Commission.

[FR Doc. 07-2280 Filed 5-3-07; 3:40 pm]

BILLING CODE 6820-KF-M